DEPARTMENT OF TRANSPORTATION

Pipeline and Hazardous Materials Safety Administration

[Docket No. PHMSA-2011-0246; Notice No. 11-11]

International Standards on the Transport of Dangerous Goods; Public Meeting

AGENCY: Pipeline and Hazardous Materials Safety Administration (PHMSA), Department of Transportation.

ACTION: Notice of public meeting.

SUMMARY: This notice is to advise interested persons that PHMSA will conduct a public meeting in preparation for the 40th session of the United Nations Sub-Committee of Experts on the Transport of Dangerous Goods (UNSCOE TDG) to be held November 28 to December 7, 2011, in Geneva, Switzerland. During this meeting, PHMSA is also soliciting comments relative to potential new work items which may be considered for inclusion in its international agenda.

Information Regarding the UNSCOE TDG Meeting:

DATES: Thursday, November 17, 2011; 1 p.m.-4 p.m.

ADDRESSES: The meeting will be held at the DOT Headquarters, West Building, Conference Rooms 8-10, 1200 New Jersey Avenue SE., Washington, DC 20590.

Registration: Pre-registration for this meeting is not required. Participants are encouraged to arrive early to allow time for security checks necessary to obtain access to the building.

Conference Call Capability/Live Meeting Information: Conference call-in and “live meeting” capability will be provided for this meeting. Specific information on call-in and live meeting access will be posted when available at http://www.phmsa.dot.gov/hazmat/regs/international.

FOR FURTHER INFORMATION CONTACT: Mr. Shane Kelley, Senior International Transportation Specialist, Office of Hazardous Materials Safety, Department of Transportation, Washington, DC 20590; (202) 366-0656.

SUPPLEMENTARY INFORMATION: The primary purpose of this meeting will be to prepare for the 40th session of the UNSCOE TDG. The 40th session of the UNSCOE TDG is the second of four meetings scheduled for the 2011-2012 biennium. The UNSCOE will consider proposals for the 18th Revised Edition of the United Nations Recommendations on the Transport of Dangerous Goods Model Regulations which will be implemented within relevant domestic, regional, and international regulations from January 1, 2015. Copies of proposals and the meeting agenda may be obtained from the United Nations Transport Division's Web site at: http://www.unece.org/trans/main/dgdb/dgsubc/c32011.html.

General topics on the agenda for the UNSCOE TDG meeting include:

• Listing, classification and packing

• Electric storage systems

• Miscellaneous proposals of amendments to the Model Regulations

• Electronic data interchange (EDI) for documentation purposes

• Cooperation with the International Atomic Energy Agency (IAEA)

• Global harmonization of transport of dangerous goods regulations

• Guiding principles for the Model Regulations

• Globally Harmonized System of Classification and Labeling of Chemicals (GHS)

In addition, PHMSA is soliciting comments on how to further enhance harmonization for international transport of hazardous materials. PHMSA has finalized a broad international strategic plan and welcomes input on items which stakeholders believe should be included as specific initiatives within this plan. PHMSA's Office of International Standards Strategic Plan can be accessed at: http://www.phmsa.dot.gov/hazmat/regs/international.

Following the 40th session of the UNSCOE TDG, PHMSA will place a copy of the Sub-Committee's report and a summary of the results on PHMSA's Hazardous Materials Safety Web site at http://www.phmsa.dot.gov/hazmat/regs/international. PHMSA's site at http://www.phmsa.dot.gov/hazmat/regs/international provides additional information regarding the UNSCOE TDG and related matters such as summaries of decisions taken at previous sessions of the UNSCOE TDG.

Issued in Washington, DC, on November 2, 2011.
Magdy El-Sibaie,
Associate Administrator for Hazardous Materials Safety.

[FR Doc. 2011-28815 Filed 11-4-11; 8:45 am]

BILLING CODE 4910-60-P